DEPARTMENT OF THE INTERIOR

Bureau of Land Management

[LLNVS00000 L12200000.PM0000 LXSS006F0000 261A; 12-08807; MO# 4500032205; TAS: 14X1109]

Notice of Public Meetings: Mojave-Southern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Mojave-Southern Great Basin Resource Advisory Council (RAC) will meet in Ely and Las Vegas, Nevada. The meetings are open to the public.

DATES: March 16, 2012, at the BLM Southern Nevada District Office, 4701 N. Torrey Pines Drive, Las Vegas, Nevada; July 19-20, 2012, at the BLM Ely District Office, 702 North Industrial Way, Ely, Nevada; and September 21, 2012, at the BLM Southern Nevada District Office, 4701 N. Torrey Pines Drive, Las Vegas, Nevada. Meeting times will be made public prior to each meeting. Each meeting will include a general public comment period that will be listed in the final meeting agenda. An agenda will be available two weeks prior to each meeting.

FOR FURTHER INFORMATION CONTACT: Hillerie Patton, (702) 515-5046, Email: hpatton@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 15-member Council advises the Secretary of the Interior, through the BLM, on a variety of planning and management issues associated with public land management in Nevada. Topics for discussion will include, but are not limited to: Renewable energy development and transmission, the greater sage-grouse, BLM Battle Mountain District and Southern Nevada District resource management plans, subgroup reports, and other topics that may be raised by RAC members.

The final agendas with any additions/corrections to agenda topics, locations, field trips and meeting times, will be posted on the BLM Web site at: http://www.blm.gov/nv/st/en/res/resource_advisory.html, and will be sent to the media at least 14 days before the meeting. Individuals who need special assistance such as sign language interpretation or other reasonable accommodations, or who wish to receive a copy of each agenda, should contact Hillerie Patton at 702-515-5046 no later than one week before the start of each meeting.

Dated: February 15, 2012.
Erica Szlosek,
Chief, Office of Communications, BLM Nevada State Office.

[FR Doc. 2012-4026 Filed 2-21-12; 8:45 am]

BILLING CODE 4310-HC-P